SMALL BUSINESS ADMINISTRATION

[License No. 04/04-0352]

Ballast Point Ventures IV, L.P.; Notice Seeking Exemption Under Section 312 of the Small Business Investment Act, Conflicts of Interest

Notice is hereby given that Ballast Point Ventures IV, L.P. 401 East Jackson Street, Suite 2300, Tampa, FL 33602, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Ballast Point Ventures IV, L.P., is seeking a written exemption from SBA for a proposed financing to Symphonic Distribution Inc., 707 N Franklin Street, Suite 400, Tampa, FL 33602.

The financing is brought within the purview of § 107.730(a)(4) of the Regulations because Ballast Point Ventures IV, L.P. will provide financing where its Associate owns more than 10% equity ownership in the company, Symphonic Distribution Inc., and will have a portion of its obligation discharged, therefore this transaction is considered Provide financing to an Associate of another Licensee to discharge an obligation of an Associate requiring SBA's prior written exemption. Ballast Point Ventures IV, L.P. has not made its investment in Symphonic Distribution Inc., and is seeking pre-financing SBA approval.

Notice is hereby given that any interested person may submit written comments on this transaction within fifteen days of the date of this publication to the Associate Administrator, Office of Investment and Innovation, U.S. Small Business Administration, 409 Third Street SW, Washington, DC 20416.

Small Business Administration.
Bailey DeVries,
Associate Administrator, Office of Investment and Innovation.

[FR Doc. 2021-22960 Filed 10-20-21; 8:45 am]

BILLING CODE P